FEDERAL COMMUNICATIONS COMMISSION

47 CFR Part 76

[MB Docket Nos. 02-144; MM Docket Nos. 92-266, 93-215; CS Docket No. 94-28; FCC 25-33; FR ID 320818]

Cable Television Rates

AGENCY: Federal Communications Commission.

ACTION: Final rule; announcement of effective date.

SUMMARY: In this document, the Federal Communications Commission (FCC) announces that the Office of Management and Budget (OMB) has approved the information collection under OMB Control Number 3060-0703 and announces the effective date for amendments adopted by the Report and Order, FCC 25-33, 90 FR 31145 (Order), which were delayed. This document is consistent with the Order, which states that the Media Bureau will publish a document in the Federal Register announcing the effective date of the delayed amendment.

DATES: Amendatory instruction 7 (47 CFR 76.923), published at 90 FR 31145 on July 14, 2025, is effective January 1, 2026.

FOR FURTHER INFORMATION CONTACT: For additional information on this proceeding, contact Katie Costello, Policy Division, Media Bureau at Katie.Costello@fcc.gov or (202) 418-2233.

SUPPLEMENTARY INFORMATION: This document announces that OMB approved the modifications to the information collection requirements in 47 CFR 76.923, associated with FCC Form 1205, on November 26, 2025. This rule section was modified in the Order, FCC 25-33, published at 90 FR 31145 on July 14, 2025. The Commission publishes this document as an announcement of the effective date of January 1, 2026 for 47 CFR 76.923.

Synopsis

As required by the Paperwork Reduction Act of 1995 (44 U.S.C. 3507), the FCC is notifying the public that it received final OMB approval on November 26, 2025 for the information collection requirements contained in 47 CFR 76.923, associated with FCC Form 1205. Further, the FCC is notifying the public that revisions to 47 CFR 76.923 are effective January 1, 2026. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0703.

The foregoing notice is required by the Paperwork Reduction Act of 1995, Public Law 104-13, October 1, 1995, and 44 U.S.C. 3507.

Federal Communications Commission.
Marlene Dortch,
Secretary.

[FR Doc. 2025-22062 Filed 12-4-25; 8:45 am]

BILLING CODE 6712-01-P